DEPARTMENT OF HEALTH AND HUMAN SERVICES

Centers for Medicare & Medicaid Services

[CMS-1279-N2]

Medicare Program; Public Meeting of the Program Advisory and Oversight Committee (PAOC) for Quality Standards and Competitive Acquisition of Certain Durable Medical Equipment, Prosthetics, Orthotics, and Supplies (DMEPOS)

AGENCY: Centers for Medicare & Medicaid Services (CMS), HHS.

ACTION: Notice of meeting.

SUMMARY: This notice announces the date, location, and registration requirements for the first public meeting of the Program Advisory and Oversight Committee (PAOC) for the competitive acquisition of certain durable medical equipment, prosthetics, orthotics, and supplies (DMEPOS). The October 6, 2004 meeting will provide a forum for the PAOC to consider issues related to competitive bidding for DMEPOS items and to furnish advice to the Secretary regarding these issues. Requirements for the PAOC are specified by section 302 of the Medicare Prescription Drug, Improvement, and Modernization Act of 2003 (MMA) (Pub. L. 108-173). The public is invited to attend this meeting to observe the committee's discussion. While non-committee members attending the meeting as interested observers will not have the opportunity to make oral comments or presentations, written comments will be accepted.

DATES: The Meeting: The PAOC meeting will take place on Wednesday, October 6, 2004, 9 a.m. through 5 p.m.

ADDRESSES: The PAOC meeting will be held in the Centers for Medicare & Medicaid Services (CMS) Auditorium. Our address is 7500 Security Boulevard, Baltimore, MD 21244.

FOR FURTHER INFORMATION CONTACT: Sean Dalenberg, (410) 786-0300.

SUPPLEMENTARY INFORMATION:

I. Regulatory Background

On December 8, 2003, the President signed the Medicare Prescription Drug, Improvement, and Modernization Act of 2003 (Pub. L. 108-173). Section 302 of MMA requires the Secretary of the Department of Health and Human Services (the Secretary) to replace the current DME payment methodology for certain items with a competitive acquisition process to improve the effectiveness of Medicare's methodology for setting DME payment amounts. The new bidding process will establish payment for DME, and drugs and supplies used in conjunction with DME, but excluding inhalation drugs and class III devices under the Food, Drug and Cosmetic Act. In addition, this new bidding process will establish payment for enteral nutrition and off-the-shelf orthotics. Section 302 of MMA also mandates implementation of an accreditation program and development of quality standards for durable medical equipment, prosthetics, orthotics, and supplies (DMEPOS). The statute requires the Secretary to establish the PAOC. The PAOC is responsible for providing advice on the development and implementation of these provisions.

Specifically, section 302 of the MMA states that the PAOC shall provide advice on the following:

• Implementation of the Competitive Acquisition Program.

• Establishment of financial standards for suppliers under the program that take into account the needs of small providers.

• Establishment of data collection requirements for the efficient management of the program.

• Development of proposals for efficient interaction among manufacturers, providers of services, suppliers, and individuals.

• Establishment of the quality standards.

The PAOC may also perform additional functions specified by the Secretary. As specified in section 302(b)(1) of MMA, which amends section 1847 of the Act by adding paragraph (c)(4), to specify that the provisions of the Federal Advisory Committee Act (5 U.S.C. App.) are not applicable for PAOC meetings.

On June 2, 2004, we published a notice in the Federal Register (69 FR 31125) entitled “Request for Nominations for the Program Advisory Oversight Committee for the Competitive Acquisition of Durable Medical Equipment and Other Items” requesting nominations from the public for committee members. We are currently in the process of reviewing and processing these nominations. The names of those selected as PAOC members will be posted at http://www.cms.hhs.gov/suppliers/dmepos/compbid. This Web site will also include the agenda for the first PAOC meeting. Future dates and locations for PAOC meetings and agendas will be made available at the above listed Web site address. The public may also register on the list serve at the Web site for future PAOC notifications.

II. Registration

PAOC Registration Procedures: Members of the public interested in attending the October 6, 2004 meeting must register in advance by either mail or e-mail as indicated below.

Each registrant must provide the following information: Name; company name and address (if applicable); telephone and fax numbers; e-mail address (if available); and any special needs requirements. Because of staff and resource limitations, we cannot accept comments by facsimile (FAX) transmission.

Special Accommodations: Persons attending the PAOC public meeting with hearing or visual impairments, special requirements, or a condition that requires special assistance or accommodation, must provide this information upon registering for the meeting.

A CMS staff member will confirm your registration by mail, e-mail or fax. We recommend that you retain a copy of this confirmation of pre-registration to facilitate your entry into the building.

Registration By Mail: We must receive your registration by mail no later than 5 p.m. on September 22, 2004 in order for you to obtain access to the building. Please address mailed registrations to Sean Dalenberg, Centers for Medicare & Medicaid Services, 7500 Security Boulevard, Mail Stop C5-08-27, Baltimore, MD 21244.

Registration By E-mail: If you wish to register electronically, please submit your request to the following e-mail address: sdalenberg@cms.hhs.gov. We must receive your registration no later than 5 p.m., September 22, 2004.

For Additional Information: Please contact our recorded Hotline at 410-786-9379.

III. Submission of Comments

Written comments from the public addressing topics discussed at the meeting must be received by October 13, 2004. Please send your written comments to Sean Dalenberg, Centers for Medicare & Medicaid Services, 7500 Security Boulevard, Mail Stop C5-08-27, Baltimore, MD 21244. A summary of the public meeting will be posted at http://www.cms.hhs.gov/suppliers/dmepos/compbid after the meeting.

IV. General Information

This PAOC public meeting will be held in a Federal government building; therefore, Federal security measures are in effect. In planning your arrival, we recommend allowing additional time to clear security. In order to gain access to the building and grounds, all attendees must be prepared to provide a government-issued photo identification. Access may be denied to persons without proper identification. Security measures will also include inspection of vehicles, inside and out, at the entrance to the grounds. In addition, all persons entering the building must pass through a metal detector. All items brought to CMS, including personal items, computers, electronics, and cell phones are subject to physical inspection.

Authority: Section 302 of the Medicare Prescription Drug, Improvement, and Modernization Act of 2003 (MMA) (Pub. L. 108-173).

(Catalog of Federal Domestic Assistance Program No. 93.774, Medicare—Supplementary Medical Insurance Program)

Dated: August 17, 2004.
Mark B. McClellan,
Administrator, Centers for Medicare & Medicaid Services.

[FR Doc. 04-19259 Filed 8-26-04; 8:45 am]

BILLING CODE 4120-01-P